FEDERAL TRADE COMMISSION

Agency Information Collection Activities; Proposed Collection; Comment Request; Extension

AGENCY: Federal Trade Commission (FTC).

ACTION: Notice.

SUMMARY: The Federal Trade Commission is seeking public comments on its proposal to extend through December 31, 2005 the current Paperwork Reduction Act (“PRA”) clearance for information collection requirements contained in four consumer credit regulations enforced by the Commission. That clearance expires on December 31, 2002.

DATES: Comments must be filed by October 21, 2002.

ADDRESSES: Send written comments to Secretary, Federal Trade Commission, Room H-159, 600 Pennsylvania Ave., NW., Washington, DC 20580. All comments should be captioned “Regs BEMZ: Paperwork Comment.” Comments in electronic form should be sent to: RegsBEMZpprwork@ftc.gov, as prescribed below.

FOR FURTHER INFORMATION CONTACT: Requests for additional information or copies of the proposed information requirements should be addressed to Carole Reynolds, Attorney, Division of Financial Practices, Bureau of Consumer Protection, Federal Trade Commission, 600 Pennsylvania Ave., NW., Washington, DC 20580, (202) 326-3230.

SUPPLEMENTARY INFORMATION: Under the PRA (44 U.S.C. 3501-3520), Federal agencies must obtain approval from the Office of Management and Budget (OMB) for each collection of information they conduct or sponsor. “Collection of information” means agency requests or requirements that members of the public submit reports, keep records, or provide information to a third party. 44 U.S.C. 3502(3), 5 CFR 1320.3(c). As required by section 3506(c)(2)(A) of the PRA, the FTC is providing this opportunity for public comment before requesting that OMB extend the existing paperwork clearance for the regulations noted herein.

The FTC invites comments on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including through the use of appropriate automated, electronic, mechanical, or other technological collection techniques or other forms of information technology, e.g., permitting electronic submission of responses.

If a comment contains nonpublic information, it must be filed in paper form, and the first page of the document must be clearly labeled “confidential.” Comments that do not contain any nonpublic information may instead be filed in electronic form (in ASCII format, WordPerfect, or Microsoft Word) as part of or as an attachment to e-mail messages directed to the following e-mail box: RegsBEMZpprwork@ftc.gov. Such comments will be considered by the Commission and will be available for inspection and copying at its principal office in accordance with Section 4.9(b)(6)(ii) of the Commission's rules of practice, 16 CFR section 4.9(b)(6)(ii)).

The four rules covered by this notice are:

(1) Regulations promulgated under The Equal Credit Opportunity Act, 15 U.S.C. 1691 et seq. (“ECOA”) (“Regulation B”) (Control Number: 3084-0087);

(2) Regulations promulgated under The Electronic Fund Transfer Act, 15 U.S.C. 1693 et seq. (“EFTA”) (“Regulation E”) (Control Number: 3084-0085);

(3) Regulations promulgated under The Consumer Leasing Act, 15 U.S.C. 1697 et seq. (“CLA”) (“Regulation M”) (Control Number: 3084-0086);

(4) Regulations promulgated under The Truth-In-Lending Act, 15 U.S.C. 1601 et seq. (“TILA”) (“Regulation Z”) (Control Number: 3084-0088);

Each of these four rules impose certain PRA recordkeeping and disclosure requirements associated with providing credit or with other financial transactions. All of these rules require covered entities to keep certain records. Staff believes that these entities would likely retain these records in the normal course of business even absent the recordkeeping requirement in the rules.¹ There is, however, some burden associated with ensuring that covered entities do not prematurely dispose of relevant records during the period of time required by the applicable rule.

¹ PRA “burden” does not include effort expended in the ordinary course of business, regardless of any regulatory requirement. 5 CFR 1320.3(b)(2).

Disclosure requirements involve both set-up and monitoring costs as well as certain transaction-specific costs. “Set-up” burden, incurred by new entrants only, includes identifying the applicable disclosure requirements, determining compliance obligations, and designing and developing compliance systems and procedures. “Monitoring” burden, incurred by all covered entities, includes reviewing revisions to regulatory requirements, revising compliance systems and procedures as necessary, and monitoring the ongoing operation of systems and procedures to ensure continued compliance. “Transaction-related” burden refers to the effort associated with providing the various required disclosures in individual transactions. While this burden varies with the number of transactions, the figures shown for transaction-related burden in the tables that follow are estimated averages.

The actual range of compliance burden experienced by covered entities, and reflected in those averages, varies widely. Depending on the extent to which covered entities have developed automated systems and procedures for providing the required disclosures, and the efficacy of those systems and procedures, some entities may have little or no such burden, while others incur a higher burden.²

² For example, large retailers may use automated means to provide required disclosures, such as issuing, en masse, notices of changes of terms. Smaller retailers and certain types of creditors may have less automated compliance systems, and thus may issue disclosures on an individual transaction basis, resulting in higher burden.

Calculating the burden associated with the four regulations' disclosure requirements is very difficult because of the highly diverse group of affected entities. The “respondents” included in the following burden calculations consist of credit and lease advertisers, creditors, financial institutions, service providers, certain government agencies and others involved in delivering electronic fund transfers of government benefits, and lessors. The burden estimates represent staff's best assessment, based on its knowledge and expertise relating to the financial services industry. To derive these estimates, staff considered the wide variations in covered entities: (1) Size and location; (2) credit or lease products offered, extended, or advertised, and their particular terms; (3) types of electronic fund transfers (EFTs) used; (4) types and occurrences of adverse actions; (5) types of appraisal reports utilized; and (6) automation with regard to compliance operations.

In some instances, where covered entities may make certain required disclosures in the ordinary course of business, the Regulation imposes no PRA burden. In addition, some entities have developed highly automated means of providing the required disclosures, while others rely on methods requiring more manual effort.

The estimated PRA burden associated with these rules, attributable to the Commission, is less today than in the past. Staff believes that as automation and expanded quality control become more pervasive in the financial services industry, entities are able to comply more efficiently.

The cost estimates shown below relate solely to labor costs. The applicable PRA requirements impose minimal capital or other non-labor costs, as affected entities generally have the necessary equipment for other business purposes. Similarly, staff estimates that compliance with these rules entails minimal printing and copying costs beyond that associated with documenting financial transactions in the ordinary course of business. The burden estimates shown below include the time necessary to train staff to be in compliance with the regulations.

The following paragraphs discuss each of these rules, their particular FRA requirements, and staff's best estimates of the related hour and cost burdens.

1. Regulation B

The ECOA prohibits discrimination in the extension of credit. Regulation B, 12 CFR 202, promulgated by the Board of Governors of the Federal Reserve System, establishes both recordkeeping and disclosure requirements to assist consumers in understanding their rights under the ECOA and to assist in detecting unlawful discrimination. The FTC enforces the ECOA as to all creditors except those that are subject to the regulatory authority of another federal agency (such as federally chartered or insured depository institutions).

Estimated annual hours burden: 2,500,000 hours, rounded to the nearest thousand (1,150,000 recordkeeping hours − 1,409,499 disclosure hours).

Recordkeeping: FTC staff estimates that Regulation B's general recordkeeping requirements affect 1,000,000 credit firms subject to the Commission's jurisdiction, at an average annual burden of one hour per firm, for a total of 1,000,000 hours. Staff also estimates that the requirement that creditors monitor information about race/national original, sex, age, and marital status imposes a maximum burden of one minute each ³ for approximately nine million credit applications (based on industry data regarding the approximate number of mortgage purchase and refinance originations), for a total of 150,000 hours. The total estimated recordkeeping burden is 1,150,000 hours.

³ Regulation B contains a model form the creditors may use to gather and retain the required information.

Disclosure: Regulation B requires that creditors (i.e., entities that regularly participate in the decision whether to extend credit under Regulation B) provide notices whenever they take adverse action. The Regulation also requires entities that extend various types of mortgage credit to provide a copy of the appraisal report to applicants and to notify them of their right to a copy of the report.

Regulation B applies to retailers, mortgage lenders, mortgage brokers, finance companies, Internet businesses, and others. Below is staff's best estimate of burden applicable to this highly broad spectrum of covered entities.

Disclosure | Setup/monitoring ¹: Respondents | Setup/monitoring ¹: Average burden per respondent (hours) | Setup/monitoring ¹: Total setup/monitoring burden (hours) | Transaction-related ²: Number of transactions | Transaction-related ²: Average burden per transaction (minutes) | Transaction-related ²: Total transaction burden (hours) | Total burden (hours)
Adverse action notices | 1,000,000 | .5 | 500,000 | 200,000,000 | .25 | 833,333 | 1,333,333
Appraisal notices | 22,000 | .5 | 11,000 | 6,500,000 | .25 | 27,083 | 38,083
Appraisal reports | 22,000 | .5 | 11,000 | 6,500,000 | .25 | 27,083 | 38,083
Total |  |  |  |  |  |  | 1,409,499
¹ With respect to appraisal notices and appraisal reports, the above figures assume that approximately half of applicable mortgage entities (.5 x 44,000, or 22,000 businesses) would not otherwise provide this information and thus would be affected.
² The above figures assume that half of applicable mortgage transactions (.5 x 13,000,000, or 6,500,000) would not otherwise provide the appraisal notices and reports and thus would be affected.

Estimated annual cost burden: $46,418,000, rounded to the nearest thousand.

Staff calculated labor costs by applying appropriate hourly cost figures to the burden hours described above. The hourly rates used below ($50 for managerial or professional time, $20 for skilled technical time, and $10 for clerical time) are averages.

Recordkeeping: Staff estimates that the general recordkeeping responsibility of one hour per creditor would involve approximately 90 percent clerical time and 10 percent skilled technical time. Keeping records of race/national origin, sex, age, and maritial status requires an estimated one minute of skilled technical time. As shown below, the total recordkeeping cost is $14,000,000.

Disclosure: For each notice or information item listed, staff estimates that the burden hours consist of 10 percent managerial time and 90 percent skilled technical time. As shown below, the total disclosure cost is $32,418,500.

Required task | Managerial: Time (hours) | Managerial: Cost ($50/hr.) | Skilled technical: Time (hours) | Skilled technical: Cost ($20/hr.) | Clerical: Time (hours) | Clerical: Cost ($10/hr.) | Total cost ($)
General Recordkeeping | 0 | 0 | 100,000 | $2,000,000 | 900,000 | $9,000,000 | $11,000,000
Other Recordkeeping | 0 | 0 | 150,000 | 3,000,000 | 0 | 0 | 3,000,000
Total Recordkeeping |  |  |  |  |  |  | 14,000,000
Adverse action notices | 133,333 | $6,666,650 | 1,200,000 | 24,000,000 | 0 | 0 | 30,666,650
Appraisal notices | 3,808 | 190,400 | 34,275 | 685,500 | 0 | 0 | 875,900
Appraisal reports | 3,808 | 190,400 | 34,275 | 685,500 | 0 | 0 | 875,900
Total Disclosure |  |  |  |  |  |  | 32,418,500
Total Recordkeeping and Disclosure |  |  |  |  |  |  | 46,418,450

2. Regulation E

The EFTA requires accurate disclosure of the costs, terms, and rights relating to electronic fund transfer (EFT) services to consumers. Regulation E, 12 CFR 205, promulgated by the Board of Governors of the Federal Reserve System, establishes both recordkeeping and disclosure requirements applicable to entities providing EFT services to consumers. The FTC enforces the EFTA as to all entities providing EFT services except those that are subject to the regulatory authority of another federal agency (such as federally chartered or insured depository institutions).

Estimated annual hours burden: 3,580,000 hours (500,000 recordkeeping hours + approximately 3,080,000 disclosure hours).

Recordkeeping: Staff estimates that Regulation E's recordkeeping requirements affect 500,000 firms offering EFT services to consumers and subject to the Commission's jurisdiction, at an average burden of one hour per firm, for a total of 500,000 hours.

Disclosure: Regulation E applies to financial institutions (including certain retailers and electronic commerce entities), service providers, various federal and state agencies offering electronic fund transfers (EFTs), and others. Below is staff's best estimate of burden applicable to this highly broad spectrum of covered entities.

Disclosure | Setup/monitoring: Respondents | Setup/monitoring: Average burden per respondent (hours) | Setup/monitoring: Total setup/monitoring burden (hours) | Transaction-related: Number of transactions | Transaction-related: Average burden per transaction (minutes) | Transaction-related: Total transaction burden (hours) | Total burden (hours)
Initial terms | 100,000 | .5 | 50,000 | 1,000,000 | .02 | 333 | 50,333
Change in terms | 25,000 | .5 | 12,500 | 33,000,000 | .02 | 11,000 | 23,500
Periodic statements | 100,000 | .5 | 50,000 | 1,200,000,00 | .02 | 400,000 | 450,000
Error resolution | 100,000 | .5 | 50,000 | 1,000,000 | 5 | 83,333 | 133,333
Transaction receipts | 100,000 | .5 | 50,000 | 5,000,000,000 | .02 | 1,666,667 | 1,716,667
Preauthorized transfers | 500,000 | .5 | 250,000 | 1,000,000 | .25 | 4,167 | 254,167
Service provider notices | 100,000 | .25 | 25,000 | 1,000,000 | .25 | 4,167 | 29,167
Govt. benefit notices | 10,000 | .5 | 5,000 | 100,000,000 | .25 | 416,667 | 421,667
ATM notices ¹ | 500 | .25 | 125 | 250,000 | .25 | 1,041 | 1,166
Total |  |  |  |  |  |  | 3,080,000
¹ Starting in 2001, ATM operators were required to provide certain notices to consumers regarding ATM fees. Generally, these notices must be provided on or at ATM machines and/or on paper before the consumer is committed to paying a fee.

Estimate annual cost burden: $76,240,000, rounded to the nearest thousand.

Staff calculated labor costs by applying appropriate hourly cost figures to the burden hours described above. The hourly rates used below ($50 for managerial or professional time, $20 for skilled technical time, and $10 for clerical time) are averages.

Recordkeeping: For the 500,000 recordkeeping hours, staff estimates that 10 percent of the burden hours require skilled technical time and 90 percent require clerical time. As shown below, the total recordkeeping cost is $5,500,000.

Disclosure: For each notice or information item listed, staff estimates that 10 percent of the burden hours require managerial time and 90 percent require skilled technical time. As shown below, the total disclosure cost is $70,740,000.

Required task | Managerial: Time (hours) | Managerial: Cost ($50/hr.) | Skilled technical: Time (hours) | Skilled technical: Cost ($20/hr.) | Clerical: Time (hours) | Clerical: Cost ($10/hr.) | Total cost ($)
Recordkeeping | 0 | $0 | 50,000 | $1,000,000 | 450,000 | $4,500,000 | $5,500,000
Disclosure:
Initial terms | 5,033 | $251,650 | 45,300 | $906,000 | 0 | $0 | $1,157,650
Change in terms | 2,350 | 117,500 | 21,150 | 423,000 | 0 | 0 | 540,500
Periodic statements | 45,000 | 2,250,000 | 405,000 | 8,100,000 | 0 | 0 | 10,350,000
Error resolution | 13,333 | 666,650 | 120,000 | 2,400,000 | 0 | 0 | 3,066,650
Transaction receipts | 171,667 | 8,583,350 | 1,540,000 | 30,800,000 | 0 | 0 | 39,383,350
Preauthorized transfers | 25,417 | 1,270,850 | 228,750 | 4,575,000 | 0 | 0 | 5,845,850
Service provider notices | 2,917 | 145,850 | 26,250 | 525,000 | 0 | 0 | 670,850
Govt. benefit notices | 42,167 | 2,108,350 | 379,500 | 7,590,000 | 0 | 0 | 9,698,350
ATM Notices | 116 | 5,800 | 1,050 | 21,000 | 0 | 0 | 26,800
Total Disclosure |  |  |  |  |  |  | 70,740,000
Total Recordkeeping and Disclosures |  |  |  |  |  |  | 76,240,000

3. Regulation M

The CLA requires accurate disclosure of the costs and terms of leases to consumers. Regulations M, 12 CFR 213, promulgated by the Board of Governors of the Federal Reserve System, establishes disclosure requirements that assist consumers in comparison shopping and in understanding the terms of leases and recordkeeping requirements that assist enforcement of the CLA. The FTC enforces the CLA as to all lessors and advertisers except those that are subject to the regulatory authority of another federal agency (such as federally chartered or insured depository institutions).

Estimated annual hours burden: 279,000 hours, rounded to the nearest thousand (150,000 recordkeeping hours + 129,167 disclosure hours).

Recordkeeping: Staff estimates that Regulation M's recordkeeping requirements affect approximately 150,000 firms leasing products to consumers and subject to the Commission's jurisdiction, at an average annual burden of one hour per firm, for a total of 150,000 hours.

Disclosure: Regulation M applies to automobile lessors (such as auto dealers, independent leasing companies, and manufacturers' captive finance companies), computer lessors (such as computer dealers and other retailers), furniture lessors, various electronic commerce lessors, and diverse types of lease advertisers, and others. Below is staff's best estimate of burden applicable to his highly broad spectrum of covered entities.

Disclosure | Setup/Monitoring: Respondents | Setup/Monitoring: Average burden per respondent (hours) | Setup/Monitoring: Total setup/monitoring burden (hours) | Transaction-related: Number of transactions | Transaction-related: Average burden per transaction (minutes) | Transaction-related: Total transaction burden (hours) | Total burden (hours)
Auto Leases¹ | 50,000 | .75 | 37,500 | 2,500,000 | .50 | 20,833 | 58,333
Other Leases² | 100,000 | .50 | 50,000 | 1,000,000 | .25 | 4,167 | 54,167
Advertising | 25,000 | .50 | 12,500 | 1,000,000 | .25 | 4,167 | 16,667
Total |  |  |  |  |  |  | 129,167
¹ This category focuses on consumer vehicle leases. Vehicle leasing has decreased in the past two years. Vehicle leases are subject to more lease disclosure requirements (pertaining to computation of payment obligations) than other lease transactions. (Only consumer leases for more than four months are covered.) See 15 U.S.C. 1667(1); 12 CFR 213.2(e)(1).
² This category focuses on all types of consumer leases other than vehicle leases. It includes leases for computers, other electronics, small appliances, furniture, and other transactions. (Only consumer leases for more than four months are covered.) See 15 U.S.C. 1667(1); 12 CFR 213.2(e)(1).

Estimated annual cost burden: $4,621,000, rounded to the nearest thousand.

Staff calculated labor costs by applying appropriate hourly cost figures to the burden hours described above. The hourly rates used below ($50 for managerial or professional time, $20 for skilled technical time, and $10 for clerical time) are averages.

Recordkeeping: For the 150,000 recordkeeping hours, staff estimates that 10 percent of the burden hours require skilled technical time and 90 percent require clerical time. As shown below, the total recordkeeping costs is $1,650,000.

Disclosure: For each notice or information item listed, staff estimates that 10 percent of the burden hours require managerial time and 90 percent require skill technical time. As shown below, the total disclosure cost is $2,970,850.

Required task | Managerial: Time (hours) | Managerial: Cost ($50/hr.) | Skilled technical: Time (hours) | Skilled technical: Cost ($20/hr.) | Clerical: Time (hours) | Clerical: Cost ($10/hr.) | Total cost ($)
Recordkeeping | 0 | $0 | 15,000 | $300,000 | 135,000 | $1,350,000 | $1,650,000
Disclosures
Auto Leases | 5,833 | $291,650 | 52,500 | $1,050,000 | 0 | $0 | $1,341,650
Other Leases | 5,417 | 270,850 | 48,750 | 975,000 | 0 | 0 | 1,245,850
Advertising | 1,667 | 83,350 | 15,000 | 300,000 | 0 | 0 | 383,350
Total Disclosures |  |  |  |  |  |  | 2,970,850
Total Recordkeeping and Disclosures |  |  |  |  |  |  | 4,620,850

4. Regulation Z

The TILA was enacted for foster comparison credit shopping and informed credit decision making by requiring accurate disclosure of the costs and terms of credit to consumers. Regulation, Z, 12 CFR 226, promulgated by the Board of Governors of the Federal Reserve System, establishes both recordkeeping and disclosure requirements to assist consumers and the enforcement of the TILA. The FTC enforces the TILA as to all creditors and advertisers except those that are subject to the regulatory authority of another federal agency (such as federally chartered or insured depository institutions).

Estimated annual hours burden: 20,179,000 hours, rounded to the nearest thousand (1,000,000 recordkeeping hours + 19,178,749 disclosure hours).

Recordkeeping: FTC staff estimates that Regulation Z's recordkeeping requirements affect approximately 1,000,000 firms offering credit and subject to the Commission's jurisdiction, at an average annual burden of one hour per firm, for a total of 1,000,000 hours.

Disclosure: Regulation Z disclosure requirements pertain to open-end and closed-end credit. The Regulation applies to retailers (such as department stores, appliance stores, discount retailers, medical-dental service providers, home improvement sellers, and electronic commerce retail operators); mortgage companies; finance companies; credit advertisers; auto dealerships; student loan companies; home fuel or power services (for furnaces, stoves, microwaves, and other heating, cooling or residential power equipment); credit advertisers; and others. Below is staff's best estimate of burden applicable to this highly broad spectrum of covered entities.

Disclosure ¹ | Setup/monitoring: Respondents | Setup/monitoring: Average burden per respondent (hours) | Setup/monitoring: Total setup/monitoring burden (hours) | Transaction-related: Number of transactions | Transaction-related: Average burden per transaction (minutes) | Transaction-related: Total transaction burden (hours) | Total burden (hours)
Open-end credit:
Initial terms | 100,000 | .5 | 50,000 | 50,000,000 | .25 | 208,333 | 258,333
Rescission notices | 10,000 | .5 | 5,000 | 100,000 | .25 | 417 | 5,417
Change in terms | 25,000 | .5 | 12,500 | 136,000,000 | .125 | 283,333 | 295,833
Periodic statements | 100,000 | .5 | 50,000 | 4,800,000,000 | .0625 | 5,000,000 | 5,050,000
Error resolution | 100,000 | .5 | 50,000 | 10,000,000 | 5 | 833,333 | 883,333
Credit and charge card accounts | 100,000 | .5 | 50,000 | 50,000,000 | .25 | 208,333 | 258,333
Home equity lines of credit | 10,000 | .5 | 5,000 | 5,000,000 | .25 | 20,833 | 25,833
Advertising | 250,000 | .25 | 62,500 | 700,000 | .5 | 5833 | 68,333
Closed-end credit:
Credit disclosures | 800,000 | .50 | 400,000 | 330,000,000 | 2 | 11,000,000 | 11,400,000
Rescission notices | 100,000 | .50 | 50,000 | 34,000,000 | 1 | 566,667 | 616,667
Variable rate mortgages | 75,000 | .50 | 37,500 | 1,800,000 | 2 | 60,000 | 97,500
High rate/high fee mortgages | 50,000 | .50 | 25,000 | 750,000 | 2 | 25,000 | 50,000
Reverse mortgages | 50,000 | .50 | 25,000 | 150,000 | 1 | 2,500 | 27,500
Advertising | 500,000 | .25 | 125,000 | 1,000,000 | 1 | 16,667 | 141,667
Total open-end credit |  |  |  |  |  |  | 6,845,415
Total closed-end credit |  |  |  |  |  |  | 12,333,334
Total credit |  |  |  |  |  |  | 19,178,749
¹ In some areas, e.g., home equity lines of credit, companies have merged, changed their business focus, and/or have shifted that focus into areas not under the FTC's jurisdiction. Accordingly, staff's estimates account for a reduced number of respondents in these areas. Moreover, computer technology has further facilitated the disclosure process thereby lessening the average burden per respondent, particularly with regard to setup and monitoring.

Estimated annual cost burden: $452,111,000, rounded to the nearest thousand.

Staff calculated labor costs by applying appropriate hourly cost figures to the burden hours described above. The hourly rates used below ($50 for managerial or professional time, $20 for skilled technical time, and $10 for clerical time) are averages.

Recordkeeping: For the 1,000,000 recordkeeping hours, staff estimates that 10 percent of the burden hours require skilled technical time and 90 percent require clerical time. As shown below, the total recordkeeping cost is $11,000,000.

Disclosure: For each notice or information item listed, staff estimates that 10 percent of the burden hours require managerial time and 90 percent require skilled technical time. As shown below, the total disclosure cost is $441,111,200.

Required task | Managerial: Time (hours) | Managerial: Cost ($50/hr.) | Skilled Techincal: Time (hours) | Skilled Techincal: Cost ($20/hr.) | Clerical: Time (hours) | Clerical: Cost (10/hr.) | Total cost ($)
Recordkeeping | 0 | $0 | 100,000 | $2,000,000 | 900,000 | $9,000,000 | $11,000,000
Open-end credit Disclosures:
Initial terms | 25,833 | $1,291,650 | 232,500 | $4,650,000 | 0 | $0 | $5,941,650
Rescission notices | 542 | $27,100 | 4,875 | $97,500 | 0 | $0 | $124,600
Change in terms | 29,583 | $1,479,150 | 266,250 | $5,325,000 | 0 | $0 | $6,804,150
Periodic statements | 505,000 | $25,250,000 | 4,545,000 | $90,900,000 | 0 | $0 | $116,150,000
Error resolution | 88,333 | $4,416,650 | 795,000 | 15,900,000 | 0 | $0 | $20,316,650
Credit and charge card accounts | 25,833 | $1,291,650 | 232,500 | $4,650,000 | 0 | $0 | $5,941,650
Home equity lines of credit | 2,583 | $129,150 | 23,250 | $465,000 | 0 | $0 | $594,150
Advertising | 6,833 | $341,650 | 61,500 | $1,230,000 | 0 | $0 | $1,571,650
Total open-end credit |  |  |  |  |  |  | $157,444,500
Closed-end credit Disclosures:
Credit disclosures | 1,140,000 | $57,000,000 | 10,260,000 | $205,200,000 | 0 | $0 | $262,200,000
Rescission notices | 61,667 | $3,083,350 | 555,000 | $11,100,000 | 0 | $0 | $14,183,350
Variable rate mortgages | 9,750 | $487,500 | 87,750 | $1,755,000 | 0 | $0 | $2,242,500
High rate/high fee mortgages | 5,000 | $250,000 | 45,000 | $900,000 | 0 | $0 | $1,150,000
Reverse mortgages | 2,750 | $137,500 | 24,750 | $495,000 | 0 | $0 | $632,500
Advertising | 14,167 | $708,350 | 127,500 | $2,550,000 | 0 | $0 | $3,258,350
Total closed-end credit |  |  |  |  |  |  | $283,666,700
Total Disclosures |  |  |  |  |  |  | $441,111,200
Total Recordkeeping and Disclosures |  |  |  |  |  |  | $452,111,200

William E. Kovacic,
General Counsel.

[FR Doc. 02-21117 Filed 8-19-02; 8:45 am]

BILLING CODE 6750-01-M